DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on Thursday, September 5, 2002, at the Okanogan and Wenatchee National Forests headquarters main conference room, 215 Melody Lane, Wenatchee, Washington. The meeting will begin at 9 a.m. and continue until 3 p.m. The location of the meeting is subject to change, please contact the headquarters office at (509) 6624335 for meeting location information. During this meeting we will discuss noxious weed management and prevention, and recreation management issues. All Eastern Washington Cascades and Yakima Province Advisory Committee meetings are open to the public. Interested citizens are welcome to attend.

FOR FURTHER INFORMATION CONTACT: Direct questions regarding this meeting to Paul Hart, Designated Federal Official, USDA, Wenatchee National Forest, 215 Melody Lane, Wenatchee, Washington 98801, 5096624335.

Dated: August 2, 2002.
Paul Hart,
Designated Federal Official, Okanogan and Wenatchee National Forests,

[FR Doc. 02-20158 Filed 8-8-02; 8:45 am]

BILLING CODE 3410-11-M